DEPARTMENT OF COMMERCE

International Trade Administration

[A-201-836]

Light-Walled Rectangular Pipe and Tube From Mexico; Extension of Time Limit for Preliminary Results of Antidumping Duty Administrative Review

AGENCY: Import Administration, International Trade Administration, Department of Commerce.

DATES: Effective Date: April 1, 2011.

FOR FURTHER INFORMATION CONTACT: Brian Davis, AD/CVD Operations, Office 7, Import Administration, International Trade Administration, U.S. Department of Commerce, 14th Street and Constitution Avenue NW., Washington, DC 20230; telephone: (202) 482-7924.

SUPPLEMENTARY INFORMATION:

Background

On September 29, 2010, the Department of Commerce (the Department) published in the Federal Register the initiation of the administrative review of the antidumping duty order on light-walled rectangular pipe and tube from Mexico, covering the period of August 1, 2009, to July 31, 2010. See Initiation of Antidumping and Countervailing Duty Administrative Reviews and Request for Revocation in Part, 75 FR 60076 (September 29, 2010). The current deadline for the preliminary results of this review is May 3, 2011.

Extension of Time Limits for Preliminary Results of Review

Section 751(a)(3)(A) of the Tariff Act of 1930, as amended (the Act), requires that the Department complete the preliminary results of an administrative review within 245 days after the last day of the anniversary month of an order for which a review is requested. However, if it is not practicable to complete the review within this time period, section 751(a)(3)(A) of the Act allows the Department to extend the 245 day time period for the preliminary results up to 365 days.

The Department finds that it is not practicable to complete the preliminary results of this review within the original time frame because additional information from both mandatory respondents, Regiomontana de Perfiles S.A. de C.V. (Regiomontana) and Maquilacero S.A. de C.V. (Maquilacero), is necessary to complete our analysis. Because the Department requires additional time to obtain and analyze this information, it is not practicable to complete this review within the original time limit (i.e., May 3, 2011). Accordingly, the Department is extending the time limit for completion of the preliminary results of this administrative review until no later than August 31, 2011, which is 365 days from the last day of the anniversary month of this order. We intend to issue the final results no later than 120 days after publication of the preliminary results notice.

This extension is issued and published in accordance with sections 751(a)(3)(A) and 777(i) of the Act.

Dated: March 28, 2011.
Christian Marsh,
Deputy Assistant Secretary for Antidumping and Countervailing Duty Operations.

[FR Doc. 2011-7802 Filed 3-31-11; 8:45 am]

BILLING CODE 3510-DS-P